DEPARTMENT OF COMMERCE

National Oceanic and Atmospheric Administration

50 CFR Part 679

[I.D. 110805A]

RIN 0648-AT92

Fisheries of the Exclusive Economic Zone Off Alaska; Total Allowable Catch Amounts for “Other Species” in the Groundfish Fisheries of the Gulf of Alaska

AGENCY: National Marine Fisheries Service (NMFS), National Oceanic and Atmospheric Administration (NOAA), Commerce.

ACTION: Notice of availability; request for comments.

SUMMARY: The North Pacific Fishery Management Council (Council) has submitted Amendment 69 to the Fishery Management Plan for Groundfish of the Gulf of Alaska (FMP). If approved, Amendment 69 would amend the manner in which the total allowable catch (TAC) for the “other species” complex is annually determined in the Gulf of Alaska (GOA). As part of the annual harvest specifications, the Council would recommend a TAC amount for the “other species” complex at a level less than or equal to 5 percent of the sum of the TACs for the remaining groundfish species and complexes in the GOA. This action would allow conservation and management of species within the “other species” category and is intended to promote the goals and objectives of the Magnuson-Stevens Fishery Conservation and Management Act (Magnuson-Stevens Act), the FMP, and other applicable laws. Comments from the public are welcome.

DATES: Comments on the amendment must be received on or before January 17, 2006.

ADDRESSES: Send comments to Sue Salveson, Assistant Regional Administrator, Sustainable Fisheries Division, Alaska Region, NMFS, Attn: Lori Durall. Comments may be submitted by:

• E-mail: 0648-AT92-NOA-GOA69@noaa.gov. Include in the subject line the following document identifier: GOA 69 NOA. E-mail comments, with or without attachments, are limited to 5 megabytes.

• Webform at the Federal e-Rulemaking portal: http://www.regulations.gov. Follow the instructions for submitting comments.

• Mail: P.O. Box 21668, Juneau, AK 99802.

• Hand delivery: 709 West 9th Street, Room 420A, Juneau, AK.

• Fax: 907-586-7557.

Copies of Amendment 69 and the Environmental Assessment/Regulatory Impact Review/Initial Regulatory Flexibility Analysis (EA/RIR/IRFA) for the amendment may be obtained from the mailing address specified above or from the Alaska Region NMFS website at www.fakr.noaa.gov.

FOR FURTHER INFORMATION CONTACT: Tom Pearson, 907-481-1780 or tom.pearson@noaa.gov.

SUPPLEMENTARY INFORMATION: The Magnuson-Stevens Act requires that each Regional Fishery Management Council submit any FMP amendment it prepares to NMFS for review and approval, disapproval, or partial approval. The Magnuson-Stevens Act also requires that NMFS, upon receiving an FMP amendment, immediately publish a notice in the Federal Register that the amendment is available for public review and comment.

Amendment 69 was unanimously adopted by the Council in June 2005. If approved by NMFS, this amendment would allow the Council, as part of its annual harvest specifications process, to recommend a TAC amount for the “other species” complex at a level less than or equal to 5 percent of the sum of TACs for the remaining groundfish species and complexes in the GOA. This amendment is an interim step to conserve and manage the “other species” resource in the GOA until the Council develops a more comprehensive plan to modify the management of target and non-target species in the GOA.

Background on “Other Species” Management

The “other species” complex has evolved via a series of amendments to the GOA FMP. Amendment 15 to the FMP was implemented in 1987 (52 FR 7868, March 13, 1987); this amendment continued to define “other species” as species that have “only slight economic value and are not generally targeted upon, but which are either significant components of the ecosystem or have economic potential.” The TAC for the “other species” complex was established as 5 percent of the TACs for all target species. At this time the “other species” complex included sculpins, sharks, skates, eulachon, smelts, capelin, and octopi. In 1988, Atka mackerel and squid were added to the complex.

In 1992 the entire TAC of “other species” was harvested by GOA vessels targeting a single species, Atka mackerel. Because the Council believed that harvests of Atka mackerel could not be sustained at that level, the Council removed Atka mackerel from the “other species” complex in 1993 so that they could be conserved and managed as a separate target species.

In 1998, Amendment 39 defined a forage fish category in the FMP (63 FR 13798, March 23, 1998). Important prey species were included in this category. The forage fish category contains species that were formerly included in the “other species” complex, including species of eulachon, capelin, and smelts. NMFS implemented regulations that prohibited directed fishing on forage fish and established a maximum retainable amount (MRA) of 2 percent.

In 2003, conservation concerns were again raised regarding a developing skate fishery. The primary concern was the inability of inseason management to allow for some directed fishing, and still adequately protect skate stocks while these species were within the larger “other species” complex. In 2004, Amendment 63 to the GOA FMP removed skates from the “other species” complex and placed them in a target category (69 FR 26313, May 12, 2004).

The “other species” complex currently contains the following species groups: squids, sculpins, sharks, and octopi. As currently configured, the “other species” complex is open to directed fishing after the anticipated amount of incidental catch needs in other directed groundfish fisheries has been subtracted, up to the TAC for the complex. From 1997 to 2002, the TAC for “other species” has ranged from 11,330 mt to 15,570 mt, while the incidental catch of “other species” in other directed groundfish fisheries averaged 2,124 mt.

Conservation concerns have developed with the removal of several species over time from the “other species” complex. The primary basis of these concerns is the way the “other species” TAC is calculated. As species (e.g., Atka mackerel and skates) are removed from the “other species” complex and included in the targeted fisheries TACs, the “other species” TAC increases. This means that a larger allowable harvest amount is spread over fewer species groups in the “other species” complex. Additionally, given the configuration of the complex, it is possible to target one member of the complex close to the full complex-level TAC, which inhibits in-season management's ability to control directed fishing within the complex and raises concerns given the lack of available stock information on most species groups in the complex.

If approved, Amendment 69 would allow the Council to recommend a TAC for “other species” at an amount sufficient to meet anticipated incidental catch needs in other directed groundfish fisheries or at a higher level that allows for directed fishing targeting one or more “other species” to develop at a modest, sustainable level.

A proposed rule is also expected to be published that would allow for incidental catch management under the proposed amendment. A MRA is established for each groundfish fisheries species, species group, or complex to manage incidental catch. The MRA for “other species” in all directed fisheries is 20 percent, except for arrowtooth flounder which is presently at 0 percent. The MRAs applied to the arrowtooth flounder directed fishery are 5 percent for pollock and Pacific cod, 2 percent for the forage fish category, and 0 percent for all other groundfish. Previously, arrowtooth flounder had been used as a basis for retaining MRA amounts of more valuable groundfish, such as sablefish. Once landed, the arrowtooth flounder was discarded and the incidental catch was retained. With the development of the fishery in recent years, arrowtooth flounder are now targeted for retention and processing. Because arrowtooth flounder catch is more desirable than “other species,” arrowtooth flounder is unlikely to be harvested for the purpose of retaining “other species” incidental catch. Therefore, zero retention of “other species” is not necessary to control incidental harvest of “other species” in the arrowtooth flounder fishery. Some incidental catch of “other species” in the arrowtooth flounder fishery is inevitable. Raising the “other species” MRA from 0 to 20 percent in the arrowtooth flounder fishery would eliminate the requirement to discard all “other species.”

Public comments are being solicited on proposed Amendment 69 through the end of the comment period stated (see DATES). A proposed rule that would implement the amendment may be published in the Federal Register for public comment at a later date. Public comments on the proposed rule must be received by the end of the comment period on the amendment in order to be considered in the approval/disapproval decision on the amendment. All comments received by the end of the comment period on the amendment, whether specifically directed to the amendment or to the proposed rule, will be considered in the approval/disapproval decision. Comments received after that date will not be considered in the approval/disapproval decision on the amendment. To be considered, comments must be received not just postmarked or otherwise transmitted by close of business on the last day of the comment period.

Authority: 16 U.S.C. 1801 et seq.

Dated: November 9, 2005.
Alan D. Risenhoover,
Acting Director, Office of Sustainable Fisheries, National Marine Fisheries Service.

[FR Doc. 05-22728 Filed 11-15-05; 8:45 am]

BILLING CODE 3510-22-S